DEPARTMENT OF TRANSPORTATION

Federal Transit Administration

[Docket No. FTA-2014-0006]

Notice of Request for Comments on Updates to National Transit Database Information Collection

AGENCY: Federal Transit Administration (FTA), DOT.

ACTION: Notice of request for comments.

This notice announces the intent of the Federal Transit Administration (FTA) to revise certain aspects of National Transit Database (NTD) reporting guidance as described in the NTD Reporting Manual. The proposed revisions are prompted, in part, by enactment of the Moving Ahead for Progress in the 21st Century Act (MAP-21). The changes in this notice primarily relate to urbanized area transit providers. FTA is seeking public comment before implementing these changes to 49 U.S.C. 5335 National Transit Database.

DATES: Comments must be received by September 18, 2014. Any comments filed after this deadline will be considered to the extent practicable.

ADDRESSES: Please submit your comments by only one of the following methods, identifying your submission by Docket Number (FTA-2014-0006)

• Federal eRulemaking Portal: Submit electronic comments and other data to http://www.regulations.gov.

• U.S. Mail: Send comments to Docket Operations; U.S. Department of Transportation, 1200 New Jersey Avenue SE., West Building Room W12-140, Washington, DC 20590-0001.

• Hand Delivery or Courier: Take comments to Docket Operations in Room W12-140 of the West Building, Ground Floor, at 1200 New Jersey Avenue SE., Washington, DC, between 9:00 a.m. and 5:00 p.m., Monday through Friday, except Federal holidays.

• Fax: Fax comments to Docket Operations, U.S. Department of Transportation, at (202) 493-2251.

Instructions: You must include the agency name (Federal Transit Administration) and Docket Number (FTA-2014-0006) for this notice, at the beginning of your comments. If sent by mail, submit two copies of your comments. Due to security procedures in effect since October 2001, mail received through the U.S. Postal Service may be subject to delays. Parties submitting comments should consider using an express mail firm to ensure their prompt filing of any submissions not filed electronically or by hand. If you wish to get confirmation that FTA received your comments, you must include a self-addressed stamped postcard. All comments received will be posted without change to http://www.regulations.gov, including any personal information provided. You may review U.S. DOT's complete Privacy Act Statement published in the Federal Register on April 11, 2000, at 65 FR 19477-8 or http://DocketsInfo.dot.gov.

FOR FURTHER INFORMATION CONTACT: Keith Gates, National Transit Database Program Manager, Office of Budget and Policy, (202) 366-1794, or email: keith.gates@dot.gov

Office hours are from 8:30 a.m. to 5 p.m., Monday through Friday, except Federal holidays.

SUPPLEMENTARY INFORMATION:

I. Introduction

The National Transit Database (NTD) is the Federal Transit Administration's (FTA's) primary database for statistics on the transit industry. Congress established the NTD to “help meet the needs of . . . the public for information on which to base public transportation service planning . . .” (49 U.S.C. 5335). Currently, 821 transit providers in urbanized areas report to the NTD through its online reporting system. Each year, performance data from these submissions are used to apportion over $7 billion of FTA funds for Urbanized Area Formula (Section 5307) grants, Rural Area Formula (Section 5311) grants, Tribal Transit Formula grants, Bus and Bus Facilities Formula (Section 5339) grants, and State of Good Repair (Section 5337) grants. These data are made available on the NTD Web site at www.ntdprogram.gov for the benefit of the public, transit systems, and all levels of government. These data are also used in the annual National Transit Summaries and Trends report, the biennial Conditions and Performance Report to Congress, and in meeting FTA's obligations under the Government Performance and Results Act. Reporting requirements are governed by a Uniform System of Accounts (USOA) and Reporting Manuals that are issued each year. Both the USOA and the Reporting Manual are available for review on the NTD Web site at www.ntdprogram.gov.

Every year, FTA refines and clarifies reporting requirements for the NTD in an ongoing effort to improve our reporting system, to be responsive to the needs of transit providers reporting to the NTD, and to address the needs of the transit data user community. This notice proposes a number of updates to the NTD Urban Reporting Manual necessary to implement policy changes established by the Moving Ahead for Progress in the 21st Century Act (MAP-21), to clarify ambiguous reporting guidance, and to eliminate unnecessary reporting requirements.

II. Background

This notice proposes various changes to the requirements for the Urbanized Area Systems reporting to the NTD. These changes are primarily updates to the guidance in the NTD Reporting Manual, and FTA proposes that these changes will take effect for the FY 2014 data reporting cycle, which will begin this Fall. These changes do not apply to rural transit systems reporting through the NTD Rural Module. The proposed changes are as follows:

A. Clarification for reporting subset data on ADA paratransit services

B. Clarification on the reporting of contractual relationships

C. Updates to definition of the bus rapid transit mode

D. Guidance for service on HOT lanes

E. Updates to the definition of commuter service and allocation of data attributable to an urbanized area

F. Proposed elimination of consolidated reporting and update of small systems waiver reporting

G. Clarification on consistent use of transit system names and organization types

I. Policy clarification allowing delegation of CEO certification responsibility

J. Elimination of unnecessary reporting requirements

K. Updated guidance for sampling of passenger miles

L. Expansion of capital asset reporting required by MAP-21

Although this notice proposes an expansion of capital asset reporting in the NTD, it is independent of the separate rulemaking process that is underway to define FTA asset management guidance and requirements. It is, likewise, not a part of transit safety regulatory rulemaking or any other FTA rulemaking activities. Nothing in this notice should be construed as being a preliminary activity that will eventually lead to new FTA regulations.

III. Proposed Changes to National Transit Database Reporting

A. Clarification for Reporting Subset Data on ADA Paratransit Services

Urbanized area transit systems that operate demand response (or demand response taxi) service must report their total number of annual unlinked passenger trips and their total annual operating expenditures for that mode to the NTD. These urban transit systems must also report the portion of their total demand response passenger trips and total demand response operating expenses that are attributable to the requirements of the Americans with Disabilities Act of 1990 (ADA.)

The ADA requires public agencies operating fixed-route transit systems to provide complementary and comparable ADA paratransit services to eligible persons with disabilities between points that are within ¾-mile of their fixed routes or between a point that is within a ¾-mile radius of one rail station to a point within a ¾-mile radius of another rail station. Many agencies provide additional demand-responsive (dial-a-ride) service that is beyond the minimum required under the ADA by serving a larger service area than the above minimums or by providing service to a broader segment of the public than required by the ADA. These additional services do not meet the legal definition of ADA paratransit. Other transit systems provide demand-responsive service to the general public, or provide demand-responsive service with no fixed-route service at all.

Service data required by the ADA have been reported inconsistently to the NTD in the past. In order to generate consistent and useful data from these questions, FTA is proposing the following guidance for how urban transit systems should report these data. This guidance only applies to full reports from urbanized areas; it does not apply to rural reporting, nor to reporting under a small systems waiver.

(1) Transit systems that operate demand response services that are not intended to fulfill the ADA paratransit requirements of any fixed route service should report that zero (0) of their service and operating expenses are attributable to ADA requirements.

(2) Transit systems that operate demand response services to fulfill the ADA paratransit requirements of a fixed-route service must report their unlinked trips provided to all eligible paratransit passengers (eligibility determined by local policy), excluding only the following:

(i) Trips that are sponsored by a third party (e.g. Medicare-sponsored trips);

(ii) Trips whose origin or destination (or both) are outside the minimum service area required by the ADA; and,

(iii) Trips taken during times when the fixed-route system is not operating.

(3) Transit systems that operate demand response services to fulfill the ADA paratransit requirements of a fixed-route service would then report their operating expenses for such services as attributable to the ADA on the same basis. In general, if a transit system does not have an accounting system for tracking this, then it may report on the basis of the percentage of total demand response trips that were identified as ADA trips, per the above criteria. That is, if ADA trips were 76% of all demand-response mode trips, then ADA operating expenses would be reported as 76% of total demand-response mode operating expenses.

FTA seeks comment from transit systems on how difficult it would be to report data based on the above criteria, particularly #2. You should comment on whether transit systems that provide paratransit service beyond the minimum requirements under the ADA (for example, to and from points that are outside of the minimum ¾-mile service area) would be able to reasonably differentiate such services.

B. Clarification on the Reporting of Contractual Relationships

Public transportation services reported to the NTD by an urbanized area transit system are classified as either directly operated (DO) by a transit provider or as purchased transportation (PT) service from a third-party contractor. Services provided by a purchased transportation contract are reported to the NTD in the name of the buyer. FTA would like to clarify that in order for service to be classified as PT, the service must meet three criteria:

(1) The contract or agreement must provide for the buyer to be responsible for the fully-allocated cost of providing the service, either through direct contract payments to the seller, or else through allowing the seller to retain fare and advertising revenue; (e.g. the seller of the service is not using any outside funding sources to support the service, and if the seller provides services to other buyers, then the seller must maintain separate accounting records for each service);

(2) The service must be operated in the name of the buyer; (e.g. the presence of the seller must generally be transparent to the riding public); and,

(3) The seller must operate and manage the service (e.g. Professional Employer Organization (PEO) services are not considered to be purchased transportation, a grantee using a PEO would report the service to the NTD as directly operated).

To be clear, public transportation services that do not meet the above criteria may still be reported to the NTD. However, these services would instead be reported to the NTD as directly operated, and would be reported by the organization that is actually operating the service.

C. Updates to Definition of the Bus Rapid Transit Mode

The NTD introduced the new Bus Rapid Transit (RB) mode in the 2011 Report Year. However, MAP-21 provides a new legal definition of bus rapid transit, which includes requirements such as separated right-of-way along a majority of the route during peak periods and features that emulate the services provided by rail fixed guideway public transportation systems. MAP-21 also directs the Secretary to determine other features that produce high-quality public transportation services that emulate the services provided by rail fixed guideway public transportation systems.

To be consistent with the new provisions from MAP-21, on March 3, 2014, FTA published a notice in the Federal Register seeking comment on Circular FTA C 5300.1 State of Good Repair Grants Programs: Circular and Application Instructions. In that draft circular FTA proposed the following definition of the bus rapid transit (RB) mode as a service that meets five criteria. These criteria are re-published below in order to provide additional notice to impacted parties, in particular with regards to changing the definition of the BRT Mode in the NTD. However, comments on whether the below criteria should be used for funding eligibility in the State of Good Repair Formula Program will be handled through notice and comment on the circular. The five criteria are as follows:

(1) Over 50 percent of the route operates in a separated right-of-way dedicated for transit use during peak periods; (However, other traffic may make turning movements through the separated right-of-way.)

(2) the route has defined stations that are accessible for persons with disabilities, offer shelter from the weather, and provide information on schedules and routes;

(3) the route offers faster passenger travel times through congested intersections by using active signal priority in separated guideway, and either queue-jump lanes or active signal priority in non-separated guideway;

(4) the route offers short headway, bi-directional, service that is provided for at least a 14 hour span on weekdays and a 10 hour span on weekends; (Short headway service on weekdays, consists of maximum headways that are either: 15 minutes or less throughout the day; or, 10 minutes or less during peak periods and 20 minutes or less at all other times. Short headway service on weekends consists of maximum headways that are 30 minutes or less for at least 10 hours for the day.) and,

(5) a separate and consistent brand identity applied to stations and vehicles.

Bus services that implement features of bus rapid transit systems, but which do not meet all of the above criteria, particularly corridor-based bus rapid transit projects, would still be reported to the NTD under the fixed-route bus (MB) mode.

D. Guidance for Service on HOT Lanes

On January 11, 2007, FTA published a final policy on the inclusion of transit service operated on High-Occupancy Toll (HOT) Lanes in the apportionment of formula funds. In this policy, FTA said that it would allow transit service operated on HOV Lanes that were reported to the NTD as of January 11, 2007, and were converted to HOT Lanes after that to be counted as transit service operated on an HOV Lane. FTA indicated at that time that this policy was intended to be temporary in anticipation of further statutory direction from Congress.

With the passage of MAP-21, Congress repealed the Fixed Guideway Modernization Program and replaced it with a new State of Good Repair Formula Grant Program, which includes a High-Intensity Motorbus (HIMB) service tier for transit service operated on HOV Lanes. This new formula does not make any reference to transit service on HOT lanes. Thus, FTA proposes, beginning with the Fiscal Year 2015 apportionment, to no longer consider transit service operated on any HOT lane to be the same as transit service operated on an HOV lane, for purposes of the formula apportionment for the High-Intensity Motorbus Tier. Comments on this were solicited in the previously mentioned March 3, 2014, FTA Federal Register notice, C 5300.1 State of Good Repair Grants Programs: Circular and Application Instructions. FTA is currently reviewing the comments received and is not seeking additional comments on the impact of this policy change on the State of Good Repair Formula Program. However, FTA is proposing to continue to collect the amount of transit service operated on HOT Lanes in the NTD for future use. FTA is accepting comments on this proposal to continue collecting data on transit service operated in HOT Lanes through this notice.

E. Updates to the Definition of Commuter Service and Allocation of Data Attributable to an Urbanized Area

The definition of Public Transportation at 49 U.S.C. 5302 excludes intercity passenger rail operated by Amtrak, and also intercity bus service. FTA proposes to amend the definition of public transportation in the NTD Reporting Manual to implement this definition, and to clarify the distinction between commuter and intercity services as follows:

Commuter rail is local passenger rail transportation usually having multiple-ride tickets and having, at a minimum, operations during morning and evening peak periods. Commuter rail is characterized by service with relatively long distances between stops, connecting a central city with outlying areas. Local transportation generally means that 50% or more of the passengers boarding at each key rail station over the full route must make a same-day return trip; otherwise, the service is intercity service. A key rail station is a station at the end of a line, a major transfer point, or one that otherwise accounts for a substantial portion of boardings.

Commuter rail excludes services provided by Amtrak; services provided by Amtrak are considered to be intercity rail. Provided by Amtrak means any service that uses one or more of the following: Amtrak branding, Amtrak schedules, Amtrak tickets, Amtrak's customer loyalty program, or Amtrak's priority access to Class I railroads. Services provided pursuant to 49 U.S.C. 24702 are also considered to be provided by Amtrak, whereas services provided pursuant to 49 U.S.C. 24101(a)6 and 24104(f) are not. However, services that were reported to the National Transit Database as of the 2012 Report Year, but which are excluded from the definition of commuter rail, may continue to report to the NTD and their data will continue to be treated as commuter rail only for purposes of the apportionment of, and eligibility for, FTA's formula grant programs.

Commuter bus is local fixed-route bus transportation primarily connecting outlying areas with a central city. Commuter bus is characterized by usually using a motorcoach (aka over-the-road-bus), having multiple trip tickets, multiple stops in outlying areas, limited stops in the central city, and having at least five miles of closed-door service. Local transportation generally means that 50% or more of the passengers boarding at each key bus stop over the full route must make a same-day return trip; otherwise, the service is intercity service. A key bus stop is a bus stop at the end of a line, a major transfer point, or one that otherwise accounts for a substantial portion of the boardings.

A determination that a service qualifies as public transportation will ordinarily be made when a system first reports to the NTD. This determination will usually be based on a ticket analysis or rider survey conducted by the transit system. This analysis or survey must be based on the totality of the service (i.e. the full length of the route, including all runs on all days of the week across the entire year). When a transit system's route structure changes, by extension or other significant restructuring, the transit system must submit a new analysis or survey to FTA. If it has been more than five years since the last analysis or survey, FTA may require the transit system to submit a new one.

For purposes of Federal funding allocations in the NTD, only local transportation may normally be reported as attributable to and serving an urbanized area. When intercity service provided by rail, or other non-bus modes (intercity bus is completely ineligible per 49 U.S.C. 5302), is reported to the NTD, only the miles of the service physically located within the boundaries of the Urbanized Area may be reported as being attributable to that area.

MAP-21 established a new provision at 49 U.S.C. 5336(b)(2)(E) for how to handle services not attributable to an urbanized area for purposes of the formula apportionment. This provision will be applied to intercity non-bus modes that are not able to allocate their services outside the boundaries of an urbanized area as attributable to that urbanized area. This provision will also be applied to urbanized area passenger ferry services that connect two points located outside the boundary of the urbanized area, and thus are not attributable to the urbanized area.

Finally, FTA wishes to clarify the instructions in the Reporting Manual regarding the allocation of transit service between multiple areas. Transit service classified as commuter service that connects one or more urbanized areas or that connects rural areas with one or more urbanized areas must be allocated to the urbanized area that is primarily being served. Each transit agency may determine what proportion of service to allocate to each urbanized area according to some reasonable methodology. Normally this determination is based on the percent of unlinked passenger trips on a route originating or terminating in the urbanized area, or both. For example, if 100% of the passengers on the service either board or alight the service in the Metropolis Urbanized Area, then it is reasonable to say that 100% of the service “serves” the Metropolis Urbanized Area. As another example, if only 85% of passengers on a route board or alight in Urbanized Area A then it would not be reasonable to report that 100% of the route serves Urbanized Area A. It would only be reasonable to attribute, at most, 85% of the service on the route to Urbanized Area A. The remaining 15% of the service must be attributed to the other geographical areas served. Reasonable alternative methodologies for establishing which urbanized areas are primarily being served that are based on available data (such as ticket or survey analysis) may also be used if approved by NTD staff in the efile of the NTD Online Reporting System.

F. Proposed Elimination of Consolidated Reporting and Update of Small Systems Waiver Reporting

FTA proposes to eliminate consolidated reports and have all urbanized area transit providers report directly to the NTD. FTA has previously allowed some urbanized area transit agencies to submit consolidated NTD reports for other transit providers. Typically this involves a large municipal operator reporting for smaller fixed-route, demand-response, and vanpool services in their area. These exceptions have been allowed to minimize the reporting burden on small transit operators that might not otherwise report to the NTD. In particular, by consolidating their NTD Reports, small transit operators were able to avoid the burden of filing separate reports, as well as the burden of reporting operating expenses by object class. However, consolidated NTD reporters have been still required to conduct passenger mile sampling, and have been still required to report to the Monthly Module and the Safety and Security Module.

Since 2011, FTA has reduced reporting requirements for urbanized area transit systems with 30 or fewer vehicles through the small system waiver. These systems are exempt from sampling for passenger miles and report only summary financial and operating statistics, similar to what is required of rural subrecipients. They also report contact information, funding allocation information, a revenue vehicle inventory, data on stations and maintenance facilities, and total injuries, fatalities, and safety incidents. FTA requires their reports to be reviewed by an auditor and certified by the CEO. Systems using the small systems waiver are exempt from the reporting requirements for the Monthly and Safety & Security Modules.

There are currently fewer than ten consolidated reporters in the NTD. However, consolidated reporting makes it difficult to validate and assure the accuracy of NTD data. It complicates NTD data presentation and makes it harder to use the NTD to answer basic questions about the transit industry. With the introduction of the small systems waiver in the 2011 reporting cycle, small urban transit systems can now enjoy reduced reporting requirements without having to participate in a consolidated report. In fact, small transit systems that currently participate in a consolidated report will actually be required to provide less data under this change, as a small systems waiver will eliminate the requirement to report passenger miles and monthly operational statistics. Under this proposal, reports for each transit system would have to be filed under a unique NTD ID number and consolidated reports would no longer be allowed.

Additionally, FTA wishes to clarify the requirements for a small systems waiver report to require that a reporter must use a B-30 form to identify each contractor used for purchased transportation service (see above), and must also use a D-10 Form to certify their data at the end of their report.

G. Clarification on Consistent Use of Transit System Names and Organization Types

The reporting of organization names in the NTD has been inconsistent. FTA is proposing that the name and organization type on the B-10 form must now match the total revenues and total expenses reported on the F forms. That is to say that an NTD reporter must include the total revenues and total expenses for the organization identified on the B-10 form when completing the F-Forms. Further, FTA is proposing that the responsible certifying official on the B-20 form must be a direct employee of the reporting organization, and the independent auditor statements must be done on the basis of the reporting organization.

H. Policy Clarification Allowing Delegation of CEO Certification Responsibility

The formal guidance for the NTD has historically required that the Chief Executive Officer (CEO), or equivalent officer of a reporting entity, must submit the NTD report and certify its accuracy. This proposed policy would formally allow the CEO (or equivalent officer) to delegate those duties to another individual within the organization. This delegation shall be indicated by submission of a delegation letter, signed by the CEO on organization letterhead, naming the individual who will act in the CEO's name for this purpose. This letter will be attached to the report when it is originally submitted and will remain valid for subsequent reporting years as long as both the CEO and the designated official continue to hold their respective positions. This process is intended to simplify the submission process but does not change the CEO's overall responsibility for the accuracy of data submitted in the report.

I. Elimination of Unnecessary Reporting Requirements

In its ongoing efforts to streamline NTD reporting requirements and to eliminate unnecessary data collection FTA is proposing to eliminate the requirement for rail systems to report vehicle revenue miles, vehicle revenue hours, unlinked passenger trips, and passenger miles traveled for morning peak and evening peak periods. FTA is no longer using these data and has determined that this data collection is unnecessary. This will align the service data reporting requirements for rail modes with other modes.

FTA also proposes to eliminate that B-60 and B-70 forms for identifying funds passed from one public entity to another public entity. The clarifications to the reporting of purchased transportation proposed above will render these forms unnecessary, and FTA will no longer require these data.

J. Updated Guidance for Sampling of Passenger Miles

FTA proposes to withdraw several outdated Urban Mass Transportation Administration (UMTA) Circulars that remain in effect. In particular, FTA proposes to withdraw UMTA C2710.1A, UMTA C2710.2A, and UMTA C2710.4A, which relate to procedures for conducting statistical samples to collect passenger mile data. FTA proposes to replace these Circulars with the NTD Sampling Manual, which has been in use as optional guidance for several years now. Withdrawing these outdated circulars would make the NTD Sampling Manual permanent guidance for procedures on sampling for passenger miles.

In addition, FTA proposes to withdraw UMTA C2710.6 and UMTA C2710.7. Both of these are outdated circulars that have been superseded by the NTD Reporting Manual. The texts of these circulars, as well as the NTD Sampling Manual may be reviewed at www.ntdprogram.gov.

K. Expansion of Capital Asset Reporting

Currently, the NTD only collects asset inventory information on revenue vehicles. The NTD just collects summary counts for other asset categories, such as maintenance facilities and fixed guideway. For some assets, such as signaling and telecommunications systems, NTD collects no data at all. FTA proposes to collect additional asset inventory data to remedy this situation and to meet the baseline asset condition reporting requirements required by MAP-21. These changes are proposed pursuant to 49 U.S.C. 5335(c), which requires grantees to report to the NTD any information relating to a transit asset inventory or condition assessment conducted by the recipient; and pursuant to 49 U.S.C. 5326(b)(3), which establishes new requirements for reporting on the condition of assets to FTA.

The proposed NTD Asset Inventory Module will support collection of national-scale information about the quantity, replacement values, and condition of transit capital assets. Data reported to this module will come from transit agencies' asset inventories. Assembling a nationwide inventory of asset conditions will improve FTA's ability to project future costs for the replacement and renewal of transit capital assets as reported in the Department of Transportation's biennial Conditions and Performance Report to the Congress. The information reported in the module will facilitate analysis using both the Federal version of the Transit Economic Requirements Model (TERM), the analysis tool used for Conditions and Performance Report investment scenarios, and for TERM-Lite, a capital needs tool based on the Federal version that is designed for use by local agencies. This proposal is not intended to establish a definition of state of good repair nor define official performance measures. Parties interested in these topics should look for them to be addressed in a future FTA Notice of Proposed Rulemaking (NPRM).

Beginning with the 2015 NTD reporting cycle (beginning September 2015), a new `Asset Inventory Module' (AIM) and associated updates to NTD's Annual Reporting Manual will be added to FTA's annual NTD reporting requirement for urban agencies. FTA will, however, grant an optional first-year AIM reporting waiver upon request to any transit system for the 2015 reporting year. FTA proposes that AIM reporting will then become mandatory beginning in the 2016 NTD reporting cycle, with reporting waivers issued on a case-by-case basis. For the first year, AIM data will be submitted by grantees using a Microsoft Excel spreadsheet that shares the “look and feel” of other NTD reporting forms in the current Internet-based reporting system. The Excel spreadsheet includes many user-friendly features, including user prompts, validation features, and drop-down menus. Preliminary versions of the above spreadsheet and its user manual can be found on the NTD Web site at: http://www.ntdprogram.gov/ntdprogram/pubs/other_data_products/AssetModule.xlsx http://www.ntdprogram.gov/ntdprogram/pubs/other_data_products/AssetReportingManual.docx In subsequent years, the AIM will be incorporated into NTD's Internet-based submittal format and will also be required of rural reporters.

FTA aims to minimize the reporting burden on the transit industry, while still meeting MAP-21 mandates, by collecting data at the minimum level of detail required to provide accurate needs forecasts. The data requested in the AIM will consist of objective and verifiable aspects of assets that represent significant capital costs. The data collection is also designed to require minimal updates from year to year once it is originally submitted. The proposed AIM consists of a series of electronic forms that grantees will use to report categories of asset condition data. The AIM forms include:

1. Agency Identification. Collects organizational and contact information. This form will only apply to the spreadsheet version of the data collection (2014 collection cycle).

2. Administrative and Maintenance Facilities. Collects information on administrative and maintenance facilities used to supply transit service. For each facility, the facility's name, street address, square footage, year built or substantially reconstructed, primary transit mode supported, and estimated cost are collected.

3. Passenger and Parking Facilities. Collects information on passenger and passenger parking facilities used to supply transit service. For each facility, the facility's name, street address, square footage and number of parking spaces, year built or substantially reconstructed, primary mode, and estimated cost are collected.

4. Rail Fixed Guideway. Collects data on linear guideway assets and power and signal equipment including the length of specific types of guideway and corresponding equipment reported as network totals by mode and operating agreement. The data includes quantity, expected service years, date of construction or major rehabilitation (within a ten year window), and estimated cost.

5. Track. Collects data on track assets including length and total number of track special work reported as network totals by rail mode and operating agreement. The data includes expected service years and date of construction or major rehabilitation.

6. Service Vehicles. Collects data on service vehicles that support transit service delivery, maintain revenue vehicles, and perform administrative activities. The data includes quantity, expected service life, year of manufacture, and estimated cost.

FTA thanks our stakeholders in advance for providing comment on the above proposed changes to the NTD Reporting Manual.

Therese McMillan,
Acting Administrator.

[FR Doc. 2014-19605 Filed 8-18-14; 8:45 am]

BILLING CODE 4910-57-P